DEPARTMENT OF COMMERCE

International Trade Administration

[A-570-929]

Small Diameter Graphite Electrodes from the People's Republic of China: Amended Preliminary Determination of Sales at Less Than Fair Value

AGENCY: Import Administration, International Trade Administration, Department of Commerce.

EFFECTIVE DATE: September 22, 2008.

SUMMARY: On August 21, 2008, the Department of Commerce (the Department) published the preliminary determination of sales at less than fair value (LTFV) in the antidumping investigation of small diameter graphite electrodes (graphite electrodes) from the People's Republic of China (PRC). See Small Diameter Graphite Electrodes From the People's Republic of China: Preliminary Determination of Sales at Less Than Fair Value, Postponement of Final Determination, and Affirmative Preliminary Determination of Critical Circumstances, in Part, 73 FR 49408 (August 21, 2008) (Preliminary Determination). We are amending our Preliminary Determination to correct certain ministerial errors with respect to the antidumping duty margin calculation for the Fangda Group.¹ The corrections to the Fangda Group's margin also affect the margin applied to companies receiving a separate rate.

¹ The Fangda Group consists of Fangda Carbon New Material Co., Ltd., Beijing Fangda Carbon Tech Co., Ltd., Fushun Carbon Co., Ltd., and Chengdu Rongguang Carbon Co., Ltd.

FOR FURTHER INFORMATION CONTACT: Magd Zalok or Drew Jackson, AD/CVD Operations, Office 4, Import Administration, International Trade Administration, U.S. Department of Commerce, 14th Street and Constitution Avenue, NW, Washington, DC, 20230; telephone: (202) 482-4162 or (202) 482-4406, respectively.

SUPPLEMENTARY INFORMATION: On August 21, 2008, the Department published in the Federal Register the preliminary determination that graphite electrodes from the PRC are being, or are likely to be, sold in the United States at LTFV, as provided in section 733 of the Tariff Act of 1930, as amended (the “Act”). See Preliminary Determination.

On August 25, 2008, the Fangda Group, as well as SGL Carbon LLC and Superior Graphite Co. (collectively “petitioners”) filed timely allegations of ministerial errors in the Department's preliminary calculation of the Fangda Group's dumping margin. On August 26, 2008, petitioners submitted a ministerial error allegation with respect to Fushun Jinly Petrochemical Carbon Co., Ltd. (Fushun Jinly). On August 28, 2008, per the Department's request, petitioners submitted information regarding the affect the alleged errors have on the dumping margin calculated for the Fangda Group.

After reviewing the allegations, we have determined that the Preliminary Determination included significant ministerial errors. Therefore, in accordance with section 351.224(e) of the Department's regulations, we have made changes, as described below, to the Preliminary Determination.

Period of Investigation

The period of investigation (POI) is July 1, 2007, through December 31, 2007. This period corresponds to the two most recent fiscal quarters prior to the month of the filing of the petition, January 2008. See section 351.204(b)(1) of the Department's regulations.

Scope of Investigation

The merchandise covered by this investigation includes all small diameter graphite electrodes of any length, whether or not finished, of a kind used in furnaces, with a nominal or actual diameter of 400 millimeters (16 inches) or less, and whether or not attached to a graphite pin joining system or any other type of joining system or hardware. Small diameter graphite electrodes are most commonly used in primary melting, ladle metallurgy, and specialty furnace applications in industries including foundries, smelters, and steel refining operations. Small diameter graphite electrodes subject to this investigation are currently classified under the Harmonized Tariff Schedule of the United States (HTSUS) subheading 8545.11.0000. The HTSUS number is provided for convenience and customs purposes, but the written description of the scope is dispositive.

Significant Ministerial Error

Ministerial errors are defined in section 735(e) of the Act as “errors in addition, subtraction, or other arithmetic function, clerical errors resulting from inaccurate copying, duplication, or the like, and any other type of unintentional error which the administering authority considers ministerial.” Section 351.224(e) of the Department's regulations provides that the Department “will analyze any comments received and, if appropriate, correct any significant ministerial error by amending the preliminary determination . . . .” A significant ministerial error is defined as a ministerial error, the correction of which, singly or in combination with other errors, would result in (1) a change of at least five absolute percentage points in, but not less than 25 percent of, the weighted-average dumping margin calculated in the original (erroneous) preliminary determination, or (2) a difference between a weighted-average dumping margin of zero or de minimis and a weighted-average dumping margin of greater than de minimis or vice versa. See section 351.224(g) of the Department's regulations.

Ministerial Error Allegations

The petitioners allege that, with respect to the Fangda Group, the Department: (1) did not deduct marine insurance from U.S. prices and used the wrong surrogate value for marine insurance; (2) incorrectly excluded packing costs from normal value and used the wrong surrogate value for wooden boards (a packing material); (3) deducted from U.S. prices only a truncated value, not the complete value, of foreign brokerage and handling expenses; (4) incorrectly relied on Indian import data for the period July 1, 2007 through December 1, 2007, instead of July 1, 2007 through December 31, 2007; (5) did not include the cost of self-produced calcined petroleum coke in direct material costs, and (6) incorrectly classified the baking scrap and graphite scrap that were reused in the production process as by-product offsets, rather than direct materials. With respect to Fushun Jinly, petitioners reiterated their allegation that the Department incorrectly relied on Indian import data for the period July 1, 2007 through December 1, 2007, instead of July 1, 2007 through December 31, 2007. The Fangda Group alleges that the Department inadvertently assigned raw petroleum coke the surrogate value for calcined petroleum coke and failed to convert this surrogate value from rupees to U.S. dollars.

Amended Preliminary Determination

We have determined that the Department made certain ministerial errors in calculating the preliminary dumping margin for the Fangda Group by failing to: (1) properly deduct marine insurance and brokerage and handling expenses from U.S. prices, (2) properly include the cost of packing and raw petroleum coke in normal value, and (3) properly treat the cost of baking and graphite scrap. These ministerial errors, in combination, qualify as significant ministerial errors pursuant to section 351.224(g) of the Department's regulations because they result in a change of more than five absolute percentage points to the Fangda Group's dumping margin. Accordingly, we have corrected errors alleged by petitioners and the Fangda Group. We found no ministerial errors with respect to Fushun Jinly. See Memorandum to Abdelali Elouaradia from Magd Zalok and Drew Jackson, Analysts, Allegation of Ministerial Errors, dated concurrently with this Federal Register notice.

As a result of correcting the above errors in the Fangda Group's dumping margin calculation, the dumping margin for the companies granted separate-rate status must also be revised because the dumping margin for those companies was partially derived from the Fangda Group's dumping margin.

As a result of corrections of ministerial errors, the revised weight-average dumping margins are as follows:

Exporter & Producer | Weighted-Average Margin
Fushun Carbon Co., Ltd. | 48.20%
Produced by: Fushun Carbon Co., Ltd.
Fangda Carbon New Material Co., Ltd. | 48.20%
Produced by: Fangda Carbon New Material Co., Ltd.
Beijing Fangda Carbon Tech Co., Ltd. | 48.20%
Produced by: Chengdu Rongguang Carbon Co., Ltd.; Fangda Carbon
New Material Co., Ltd.; or Fushun Carbon Co., Ltd.
Chengdu Rongguang Carbon Co., Ltd. | 48.20%
Produced by: Chengdu Rongguang Carbon Co., Ltd.
Jilin Carbon Import and Export Company | 90.50%
Produced by: Sinosteel Jilin Carbon Co., Ltd.
Guanghan Shida Carbon Co., Ltd. | 90.50%
Produced by: Guanghan Shida Carbon Co., Ltd.
Nantong River-East Carbon Joint Stock Co., Ltd. | 90.50%
Produced by: Nantong River-East Carbon Co., Ltd.; or Nantong
Yangzi Carbon Co., Ltd.
Xinghe County Muzi Carbon Co. Ltd. | 90.50%
Produced by: Xinghe County Muzi Carbon Co., Ltd.
Brilliant Charter Limited | 90.50%
Produced by: Nantong Falter New Energy Co., Ltd.; or Shanxi
Jinneng Group Co., Ltd.
Shijiazhuang Huanan Carbon Factory | 90.50%
Produced by: Shijiazhuang Huanan Carbon Factory
Shenyang Jinli Metals & Minerals Imp & Exp Co., Ltd. | 90.50%
Produced by: Shenyang Jinli Metals & Minerals Imp. & Exp. Co., Ltd.
Shanghai Jinneng International Trade Co., Ltd. | 90.50%
Produced by: Shanxi Jinneng Group Datong Energy Development Co., Ltd.
Dalian Thrive Metallurgy Import and Export Co., Ltd. | 90.50%
Produced by: Linghai Hongfeng Carbon Products Co., Ltd.; Tianzhen
Jintian Graphite Electrodes Co., Ltd.; Jiaozuo Zhongzhou Carbon Products Co., Ltd.; Heilongjiang Xinyuan Carbon Products Co., Ltd.;
Xuzhou Jianglong Carbon Manufacture Co., Ltd.; or Xinghe Xinyuan Carbon Products Co., Ltd.
GES (China) Co., Ltd. | 90.50%
Produced by: Shanghai GC Co., Ltd.; Fushun Jinli Petrochemical Carbon Co., Ltd.; Xinghe County Muzi Carbon Plant and Linyi County Lubei Carbon Co., Ltd. Shandong Province
Qingdao Haosheng Metals & Minerals Imp & Exp Co., Ltd. | 90.50%
Produced by: Sinosteel Jilin Carbon Co., Ltd.

The weight-average dumping margins for Fushun Jinly and the PRC-wide entity have not changed from the margins determined in the original preliminary determination. Those margins are as follows:

Exporter & Producer | Weighted-Average Margin
Fushun Jinly Petrochemical Carbon Co., Ltd. | 132.80%
Produced by: Fushun Jinly Petrochemical Carbon Co., Ltd.
PRC-Wide Rate | 159.34%

Retroactive Application of Amended Preliminary Determination Margins

For the Fangda Group and the separate rate applicants, we will instruct U.S. Customs and Border Protection (CBP) to require a cash deposit or the posting of a bond equal to the applicable weighted-average margins indicated above, for all entries of subject merchandise entered, or withdrawn from warehouse, for consumption on or after 90 days prior to the publication date of the Preliminary Determination, August 21, 2008. For Fushun Jinly and the PRC-wide entity, we will instruct CBP to require a cash deposit or the posting of a bond equal to the applicable weighted-average margins indicated above, for all entries of subject merchandise entered, or withdrawn from warehouse, for consumption on or after the publication date of the Preliminary Determination.

International Trade Commission Notification

In accordance with section 733(f) of the Act, we have notified the International Trade Commission (“ITC”) of our amended preliminary determination. If our final determination is affirmative, the ITC will make its final determination as to whether the domestic industry in the United States is materially injured, or threatened with material injury, by reason of imports of graphite electrodes, or sales (or the likelihood of sales) for importation, of the merchandise under investigation, within 45 days of our final determination.

This determination is issued and published in accordance with sections 733(f), 735(a)(2), and 777(i) of the Act and sections 351.210(g) and 351.224(e) of the Department's regulations.

Dated: September 15, 2008.
Stephen J. Claeys,
Acting Assistant Secretary for Import Administration.

[FR Doc. E8-22109 Filed 9-19-08; 8:45 am]

BILLING CODE 3510-DS-S